DEPARTMENT OF HOUSING AND URBAN DEVELOPMENT

[Docket No. 5100-FA-04]

Announcement of Funding Awards for the Housing Opportunities for Persons with AIDS (HOPWA) Program Fiscal Year 2007

AGENCY: Office of the Assistant Secretary for Community Planning and Development, HUD.

ACTION: Notice of funding awards.

SUMMARY: In accordance with Section 102(a)(4)(C) of the Department of Housing and Urban Development Reform Act of 1989, this notice announces 31 grant awards totaling $32,123,248 from the Department's FY2007 Housing Opportunities for Persons With AIDS (HOPWA) program. The notice announces the selection of 27 permanent supportive housing renewal grants and 4 new Permanent supportive housing demonstration grants. This notice makes available the names of the award recipients and grant amounts.

FOR FURTHER INFORMATION CONTACT: David Vos, Director, Office of HIV/AIDS Housing, Department of Housing and Urban Development, 451 Seventh Street, SW., Room 7212, Washington, DC 20410, telephone (202) 708-1934. To provide service for persons who are hearing-or-speech-impaired, this number may be reached via TTY by dialing the Federal Information Relay Service on (800) 877-TTY, (800) 877-8339, or (202) 708-2565. (Telephone number, other than “800” TTY numbers are not toll free.). Information on HOPWA, community development and consolidated planning, and other HUD programs may also be obtained from the HUD Home Page on the World Wide Web. In addition to this competitive selection, 120 jurisdictions received formula based allocations during the 2007 fiscal year for $256.1 million in HOPWA funds. Descriptions of the formula programs may be obtained at http://www.hud.gov.

SUPPLEMENTARY INFORMATION: The FY2007 SuperNOFA (Notice of Funding Availability) for HUD's Discretionary Grant Programs was published in the Federal Register on March 13, 2007 (72 FR 11661). The NOFA announced the availability of approximately $28.4 million in HOPWA competitive grant funding.

The purpose of the HOPWA NOFA announcement was to solicit applications for two types of HOPWA competitive grants: (1) Awards for new long-term projects for permanent supporting housing and transitional housing projects from states and units of local government and balance of state areas not eligible for HOPWA formula funding; and (2) awards for new Special Projects of National Significance (SPNS) demonstration grants. As in FY2006, the procedure for expiring permanent supportive housing grants that are eligible for renewal was established in a separate Notice entitled, “Standards for Fiscal Year 2007 HOPWA Permanent Supportive Housing Renewal Grant Applications.” The HOPWA assistance made available in the announcement is authorized by the AIDS Housing Opportunity Act (42 U.S.C. 12901), as amended by the Housing and Community Development Act of 1992 (Pub. L. 102-550, approved October 28, 1992) and was appropriated by the HUD Appropriations Act for 2007. The competition was announced in a NOFA published in the Federal Register March 13, 2007 (72 FR 11661). Each application was reviewed and rated on the basis of selection criteria published in the NOFA.

Public Benefit: The award of HOPWA funds to the 27 renewal and 4 new project awards contribute towards HUD's mission in providing housing support that results in the provision of safe, decent, and affordable housing for persons living with HIV/AIDS and their families who are at risk of homelessness. The selected projects will provide housing assistance to an estimated 2,200 units/households for low-income persons living with HIV/AIDS and their families. The 31 grant awards total $32,123,248 and the selected grant applicants have reported the commitment of approximately $41.8 million in leveraging of other Federal, State, local, or private resources to provide additional supportive services for project beneficiaries.

In accordance with Section 102(a)(4)(C) of the Department of Housing and Urban Development Reform Act of 1989 (103 Stat. 1987, 42 U.S.C. 3545), the Department is publishing the details of these funding grant announcements in Appendices A and B.

Dated: January 18, 2008.
Nelson R Bregón,
General Deputy Assistant Secretary for Community Planning and Development.

APPENDIX A.—Fiscal Year 2007 Funding Awards for HOPWA Permanent Supportive Housing Renewal Grants
Recipient | Location | Amount
AIDS Alabama | Birmingham, AL | $879,963
Pima County | Tucson, AZ | 1,268,844
City of San Jose | San Jose, CA | 1,226,500
San Francisco Redevelopment Agency | San Francisco, CA | 1,419,000
Housing Services Affiliate-Bernal Heights Neighborhood Center | San Francisco, CA | 508,420
Del Norte Neighborhood Development Corp. | Denver, CO | 612,379
Delaware HIV Consortium | Wilmington, DE | 749,291
City of Key West | Key West, FL | 1,424,500
City of Savannah, Daniel-Flagg Villas | Savannah, GA | 269,278
City of Savannah, Project House Call | Savannah, GA | 685,696
Cornerstone Services, Inc. | Joliet, IL | 926,251
Kentucky Housing Corporation | Frankfort, KY | 434,160
Unity for the Homeless | New Orleans, LA | 804,912
Action, Inc. | Gloucester, MA | 1,292,869
Justice Resource Institute | Boston, MA | 1,338,283
Health Care for Homeless, Inc. | Baltimore, MD | 1,260,460
Clare Housing | Minneapolis, MN | 421,029
Nebraska Health and Human Services | Lincoln, NE | 1,414,728
New Jersey Department of Health & Senior Services | Trenton, NJ | 1,235,300
Santa Fe Community Housing Trust | Santa Fe, NM | 1,314,280
The Fortune Society | New York, NY | 1,136,465
Church Avenue Merchants Block Association, Inc. | Brooklyn, NY | 1,339,000
Our House of Portland | Portland, OR | 1,037,013
Rhode Island Housing Mortgage Finance Corporation (Sunrise Project) | Providence, RI | 1,240,606
Rhode Island Housing Mortgage Finance Corporation (New Transitions) | Providence, RI | 741,355
AIDS Resource Center of Wisconsin | Milwaukee, WI | 1,339,000
West Virginia Office of Economic Opportunity | Charleston, WV | 960,499
Total |  | 27,280,081

APPENDIX B.—Fiscal Year 2007 Funding Awards for New HOPWA Special Projects of National Significance and Long Term Housing Grants
Recipient | Location | Amount
Health Services Center, Inc. | Anniston, AL | $861,224
Broward House, Inc. | Ft. Lauderdale, FL | 1,339,000
AIDS Foundation of Chicago | Chicago, IL | 1,419,762
Oregon State Department of Human Services | Portland, OR | 1,223,181
Total |  | 4,843,167

Grand Total: $32,123,248.

[FR Doc. E8-1427 Filed 1-25-08; 8:45 am]

BILLING CODE 4210-67-P